NUCLEAR REGULATORY COMMISSION

10 CFR Part 50

[Docket No. PRM-50-77]

Performance Technology; Receipt of Petition for Rulemaking

AGENCY: Nuclear Regulatory Commission.

ACTION: Petition for rulemaking; Notice of receipt.

SUMMARY: The Nuclear Regulatory Commission (NRC) has received and requests public comment on a petition for rulemaking filed by Performance Technology. The petition has been docketed by the NRC and has been assigned Docket No. PRM-50-77. The petitioner is requesting that certain general design criteria in the NRC regulations governing domestic licensing of production and utilization facilities be amended to increase emergency diesel generator start times, enhance operator training, and delete the requirement that offsite electrical power is assumed disconnected from the nuclear unit switchyard during postulated accidents. The petitioner believes that its proposed amendments would increase safety at licensed nuclear facilities.

DATES: Submit comments by August 27, 2002. Comments received after this date will be considered if it is practical to do so, but assurance of consideration cannot be given except as to comments received on or before this date.

ADDRESSES: Submit comments to: Secretary, U.S. Nuclear Regulatory Commission, Washington, DC 20555. Attention: Rulemaking and Adjudications staff.

Deliver comments to 11555 Rockville Pike, Rockville, Maryland, between 7:30 am and 4:15 pm on Federal workdays.

You may also provide comments via the NRC's interactive rulemaking website through the NRC home page (http://ruleforum.llnl.gov). At this site, you may view the petition for rulemaking, this Federal Register notice of receipt, and any comments received by the NRC in response to this notice of receipt. Additionally, you may upload comments as files (any format), if your web browser supports that function. For information about the interactive rulemaking website, contact Ms. Carol Gallagher, (301) 415-5905 (e-mail: CAG@nrc.gov).

Documents related to this action are available for public inspection at the NRC Public Document Room (PDR) located at 11555 Rockville Pike, Rockville, Maryland.

Documents created or received at the NRC after November 1, 1999 are also available electronically at the NRC's Public electronic Reading Room on the Internet at http://www.nrc.gov/reading—rm/adams.html. From this site, the public can gain entry into the NRC's Agencywide Documents Access and Management System (ADAMS), which provides text and image files of NRC's public documents. If you do not have access to ADAMS or if there are problems in accessing the documents located in ADAMS, contact the NRC PDR Reference staff at 1-800-397-4209, 301-415-4737 or by e-mail to pdr@nrc.gov.

For a copy of the petition, write to Michael T. Lesar, Chief, Rules and Directives Branch, Division of Administrative Services, Office of Administration, U.S. Nuclear Regulatory Commission, Washington, DC 20555-0001.

FOR FURTHER INFORMATION CONTACT: Michael T. Lesar, Office of Administration, U.S. Nuclear Regulatory Commission, Washington, DC 20555. Telephone: 301-415-7163 or Toll-Free: 1-800-368-5642 or E-mail: MTL@NRC.Gov.

SUPPLEMENTARY INFORMATION:

Background

The NRC has received a petition for rulemaking dated May 2, 2002, submitted by Performance Technology (petitioner) requesting that certain general design criteria at 10 CFR part 50, appendix A, be amended to increase short-term equipment response times of emergency diesel generators that it believes are inappropriate and detrimental to safety. The petitioner also believes that training nuclear power plant operators for accidents it believes are not realistic is detrimental to safety. The petitioner further recommends that the requirement that offsite electrical power is assumed disconnected from the nuclear unit switchyard during postulated accidents be deleted, and that this requirement be retained only for anticipated operational occurrences. Specifically, the petitioner is proposing amendments to Criterion 17, “Electric power systems” and conforming amendments to Criterion 35, “Emergency core cooling,” Criterion 38, “Containment heat removal,” Criterion 41, “Containment atmosphere cleanup,” and Criterion 44, “Cooling water.”

The NRC has determined that the petition meets the threshold sufficiency requirements for a petition for rulemaking under 10 CFR 2.802. The petition has been docketed as PRM-50-77. The NRC is soliciting public comment on the petition for rulemaking.

Discussion of the Petition

The petitioner believes that some short-term equipment response times are inappropriate and detrimental to safety and, in addition to its May 2, 2002, letter that accompanies this petition for rulemaking, cites a October 7, 1999, letter to the NRC where the petitioner raised concerns about the 10-second emergency diesel generator start time. The petitioner has also attached a report on the Tenth ASME International Conference on Nuclear Engineering (ICONE 10) entitled, “Are We Forgetting the Lessons from the Accident at Three Mile Island Unit 2, March 1979-A Case Study.” The ICONE 10 report describes a Licensee Event Report from the Monticello facility that the petitioner cites as indicating that one of the assumptions of the design basis accident analyses that is detrimental to safety is the requirement to assume a postulated accident coincident with the loss of offsite power. The petitioner contends that this requirement was placed in the regulations to try to capture the worst possible accident scenario so that lesser accidents do not need to be considered. The petitioner believes that its proposed changes will eliminate the requirement for coincident postulated accidents and the loss of offsite power.

The petitioner's proposed changes to 10 CFR part 50, appendix A, Criterion 17 and conforming changes to Criterion 35, Criterion 38, Criterion 41 and Criterion 44 are as follows:

Proposed Criterion 17—Electric Power Systems

An offsite electric power system and an onsite electrical power system shall be provided to permit functioning of structures, systems, and components important to safety.

The safety function for the offsite electric power system shall be to provide sufficient capacity and capability to assure that (1) specified acceptable fuel design limits and design conditions of the reactor coolant pressure boundary are not exceeded as a result of anticipated operational occurrences and (2) the reactor core is cooled and containment integrity and other vital functions are maintained in the event of postulated accidents.

Electric power from the transmission network to the onsite electric distribution system shall be supplied by two physically independent circuits (not necessarily on separate rights of way) designed and located so as to minimize to the extent practical the likelihood of their simultaneous failure under operating and postulated accident and environmental conditions. A switchyard common to both circuits is acceptable. Each of these offsite circuits shall be designed to be available in sufficient time following a loss of the other offsite electric power circuit, to assure that specified acceptable fuel design limits and design conditions of the reactor coolant pressure boundary are not exceeded.

The safety function for the onsite electric power system (assuming the offsite electric power system is not functioning) shall be to provide sufficient capacity and capability to assure that specified acceptable fuel design limits and design conditions of the reactor coolant pressure boundary are not exceeded and the reactor is cooled and containment integrity and other vital functions are maintained in the event of anticipated operational occurrences.

The onsite electric power supplies, including the onsite batteries, the onsite electric ac power source, and the onsite electric distribution system, shall have sufficient independence, redundancy, and testability to perform their safety functions assuming a single failure.

Provisions shall be included to minimize the probability of losing electric power from any of the remaining supplies as a result of, or coincident with, the loss of power generated by the nuclear power plant, the loss of power from the transmission network, or the loss of power from the onsite electric power supplies.

Proposed Criterion 35—Emergency Core Planning

A system to provide abundant emergency core cooling shall be provided. The system safety function shall be to transfer heat from the reactor core following any loss of reactor coolant at a rate such that fuel and clad damage that could interfere with continued effective reactor core cooling is prevented.

Suitable redundancy in components and feature, and suitable interconnections, leak detection, isolation, and containment capabilities shall be provided to assure that the system safety function can be accomplished assuming a single failure. The offsite and onsite electrical power systems available to assure this system safety function shall be as described in Criterion 17.

Proposed Criterion 38—Containment Heat Removal

A system to remove heat from the reactor containment shall be provided. The system safety function shall be to reduce rapidly, consistent with the functioning of other associated systems, the containment pressure and temperature following any loss-of-coolant accident and maintain them at acceptably low levels.

Suitable redundancy in components and feature, and suitable interconnections, leak detection, isolation, and containment capabilities shall be provided to assure that the system safety function can be accomplished assuming a single failure. The offsite and onsite electrical power systems available to assure this system safety function shall be as described in Criterion 17.

Proposed Criterion 41—Containment Atmosphere Cleanup

As necessary, systems to control fission products, hydrogen, oxygen, and other substances which may be released into the reactor containment shall be provided, consistent with the functioning of other associated systems, to assure that reactor containment integrity is maintained for accidents where there is a high probability that fission products may be present in the reactor containment.

Suitable redundancy in components and feature, and suitable interconnections, leak detection, isolation, and containment capabilities shall be provided to assure that the system safety function can be accomplished assuming a single failure. The offsite and onsite electrical power systems available to assure this system safety function shall be as described in Criterion 17.

Proposed Criterion 44—Cooling Water

A system to transfer heat from structures, systems, and components important to safety, to an ultimate heat sink shall be provided. The system safety function shall be to transfer the combined heat load of these structures, systems and components under normal operating and accident conditions.

Suitable redundancy in components and feature, and suitable interconnections, leak detection, isolation, and containment capabilities shall be provided to assure that the system safety function can be accomplished assuming a single failure. The offsite and onsite electrical power systems available to assure this system safety function shall be as described in Criterion 17.

The Petitioner's Conclusions

The petitioner concludes that the NRC requirements specified in certain general design criteria at 10 CFR part 50, appendix A, should be amended to increase short-term equipment response times of emergency diesel generators at nuclear power facilities, enhance operating training to eliminate training for accidents that it believes are not realistic, and delete the requirement that offsite electrical power is assumed disconnected from the nuclear unit switchyard during postulated accidents while retaining this requirement during anticipated operational occurrences. The petitioner requests that the criteria at 10 CFR part 50, appendix A, be amended as detailed in its petition for rulemaking.

Dated at Rockville, Maryland, this 6th day of June, 2002.
For the Nuclear Regulatory Commission.
Annette Vietti-Cook,
Secretary of the Commission.

[FR Doc. 02-14906 Filed 6-12-02; 8:45 am]

BILLING CODE 7590-01-P